DEPARTMENT OF THE INTERIOR

National Park Service

Agenda for the March 29, 2000 Public Meeting of the Advisory Commission for the San Francisco Maritime National Historical Park

Public Meeting, Golden Gate Club in the Presidio 10:00 a.m.-12:00 p.m.

10:00 a.m. Welcome—Neil Chaitin, Chairman, Opening Remarks—Neil Chaitin, Chairman, Approval of Minutes from Previous Meeting

10:15 a.m. Update—Haslett Warehouse, William Thomas, Superintendent

10:30 a.m. Staff Reports, Ships, Wayne Boykin, Operations, Marc Hayman, Collections, Tom Mulhern, National Maritime Museum Association, Kathy Lohan

11:30 a.m. Public Comments and Questions

11:45 a.m. Election of Officers

12:00 p.m. Agenda items/Date for next meeting

Michael R. Bell,
Acting Superintendent.

[FR Doc. 00-4634 Filed 2-25-00; 8:45 am]

BILLING CODE 4310-70-P